DEPARTMENT OF COMMERCE

National Oceanic and Atmospheric Administration

RIN 0648-XG980

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Thursday, May 9, 2019 at 10 a.m.

ADDRESSES: The meeting will be held at the Hampton Inn & Suites, 2 Foxborough Blvd., Foxborough, MA 02035; phone: (508) 623-0555.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will review the Habitat Plan Development Team (PDT) report on research planning efforts for the Great South Channel HMA, including priorities and general research framework with a briefing on specific proposals in development as appropriate. They will also review the PDT report on the Fishing Effects model and discuss applications and next steps. The committee will receive a staff update on offshore energy-related issues; discuss any upcoming comment opportunities plus other follow up items resulting from the April 18, 2019 Council meeting. Also on the agenda is planning for development of Council policies on non-fishing activities that may affect fisheries and fish habitats (offshore energy policies approved last year). Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: April 19, 2019.
Tracey L. Thompson,
Acting Deputy Director, Office of Sustainable Fisheries, National Marine Fisheries Service.

[FR Doc. 2019-08295 Filed 4-23-19; 8:45 am]

BILLING CODE 3510-22-P